DEPARTMENT OF ENERGY

Federal Energy Regulatory Commission

Combined Notice of Filings #1

October 26, 2005.

Take notice that the Commission received the following electric rate filings.

Docket Numbers: ER01-3117-004.

Applicants: Wellhead Power Panoche, LLC.

Description: Wellhead Power Panoche, LLC submits Second Revised Sheet No.1 et al to FERC Electric Tariff, Original Volume No. 1, to the amended market-base rate tariff and request an effective date of 10/21/05.

Filed Date: 10/20/2005.

Accession Number: 20051024-0232.

Comment Date: 5 p.m. Eastern Time on Thursday, November 10, 2005.

Docket Numbers: ER01-3118-004.

Applicants: Wellhead Power Gates, LLC.

Description: Wellhead Power Gates, LLC submits Second Revised Sheet No. 1 et al to FERC Electric tariff, Original Volume No. 1 to the amended market-based rate tariff and requests an effective date of 10/21/05.

Filed Date: 10/20/2005.

Accession Number: 20051024-0231.

Comment Date: 5 p.m. Eastern Time on Thursday, November 10, 2005.

Docket Numbers: ER01-388-004.

Applicants: WFEC Genco, L.L.C.

Description: WFEC GENCO, LLC submits Substitute First Revised Sheet No. 1, Substitute Original Sheet No. 6 and Substitute Original Sheet No. 7 to FERC Electric Tariff, First Revised Volume No. 1, pursuant to FERC's 10/17/05 Order.

Filed Date: 10/20/2005.

Accession Number: 20051024-0240.

Comment Date: 5 p.m. Eastern Time on Thursday, November 10, 2005.

Docket Numbers: ER01-642-004; ER01-1335-006; ER01-1011-008.

Applicants: Cottonwood Energy Company LP; Magnolia Energy LP; Redbud Energy LP.

Description: Cottonwood Energy Company LP, Magnolia Energy LP, and Redbud Energy LP notifies FERC that certain changes in the characteristics relied upon to grant market-based rate authority to the project.

Filed Date: 10/20/2005.

Accession Number: 20051024-0238.

Comment Date: 5 p.m. Eastern Time on Thursday, November 10, 2005.

Docket Numbers: ER03-1079-006; EL05-83-001.

Applicants: Aquila, Inc.

Description: Aquila, Inc on behalf of itself and Aquila Networks-MPS et al submits Substitute First Revised Sheet No. 2 et al to FERC Electric Tariff, Original Volume No. 30, Third Revised Volume No. 28, in compliance with FERC's 9/19/05 Order.

Filed Date: 10/19/2005.

Accession Number: 20051020-0271.

Comment Date: 5 p.m. Eastern Time on Wednesday, November 9, 2005.

Docket Numbers: ER05-1258-001.

Applicants: Interstate Power and Light Company.

Description: Interstate Power & Light Co & Midwest Independent Transmission System Operator, Inc submit revised Large Generator Interconnection Agreement relating to the Duane Arnold Energy Center.

Filed Date: 10/18/2005.

Accession Number: 20051020-0283.

Comment Date: 5 p.m. Eastern Time on Wednesday, November 2, 2005.

Docket Numbers: ER05-1485-001.

Applicants: Alcoa Power Generating Inc.

Description: Alcoa Power Generating Inc submits substitute tariff sheet in Attachment C to the open access transmission tariff of their Yadkin Division.

Filed Date: 10/20/2005.

Accession Number: 20051024-0239.

Comment Date: 5 p.m. Eastern Time on Thursday, November 10, 2005.

Docket Numbers: ER05-428-005.

Applicants: New York Independent System Operator, Inc.

Description: New York Independent System Operator, Inc proposes to amend the first full paragraph on Revised Sheet No. 157 Services Tariff to comply with FERC's 4/21/05 Order.

Filed Date: 10/18/2005.

Accession Number: 20051019-0263.

Comment Date: 5 p.m. Eastern Time on Tuesday, November 8, 2005.

Docket Numbers: ER05-652-004; RT04-1-016; ER04-48-016; ER05-109-003.

Applicants: Southwest Power Pool, Inc.

Description: Southwest Power Pool, Inc submits a compliance filing revising and clarifying various portions of its Open Access Transmission Tariff.

Filed Date: 10/20/2005.

Accession Number: 20051025-0134.

Comment Date: 5 p.m. Eastern Time on Thursday, November 10, 2005.

Docket Numbers: ER05-856-003.

Applicants: Virginia Electric and Power Company.

Description: Virginia Electric and Power Co. submits the Substitute First Revised Service Agreement No. 21 for the Purchase of Electricity for Resale with the Town of Windsor.

Filed Date: 10/20/2005.

Accession Number: 20051024-0225.

Comment Date: 5 p.m. Eastern Time on Thursday, November 10, 2005.

Docket Numbers: ER06-50-000.

Applicants: San Diego Gas & Electric Co.

Description: San Diego Gas and Electric Co submits informational filing intended to provide notice regarding the revised ISO Transmission Access Charges effective 1/1/05.

Filed Date: 10/18/2005.

Accession Number: 20051020-0267.

Comment Date: 5 p.m. Eastern Time on Tuesday, November 8, 2005.

Docket Numbers: ER06-51-000.

Applicants: Soyland Power Cooperative, Inc.

Description: Soyland Power Cooperative, Inc advises that due to amendments to section 201(f) of the Federal Power Act (FPA), they are not a public utility and no longer subject to FERC's jurisdiction.

Filed Date: 10/19/2005.

Accession Number: 20051020-0263.

Comment Date: 5 p.m. Eastern Time on Wednesday, November 9, 2005.

Docket Numbers: ER06-52-000.

Applicants: Southern Company Services, Inc.

Description: Southern Company Services, Inc on behalf of Southern Companies submits Revision No. 1 to the Agreement for Network Integration Transmission Service for Southern Company Generation and Energy Marketing etc.

Filed Date: 10/19/2005.

Accession Number:20051020-0262.

Comment Date: 5 p.m. Eastern Time on Wednesday, November 9, 2005.

Docket Numbers: ER06-53-000.

Applicants: Alabama Power Company.

Description: Alabama Power Co forwards the Delivery Point Specification Sheet under the Agreement for Partial Requirements Service and Complementary Services with Alabama Municipal Electric Authority.

Filed Date: 10/19/2005.

Accession Number: 20051020-0264.

Comment Date:5 p.m. Eastern Time on Wednesday, November 9, 2005.

Docket Numbers: ER06-54-000.

Applicants: California Independent System Operator Corporation.

Description: California Independent System Operator Corp submits an Interconnected Control Area Operating Agreement with the Turlock Irrigation District pursuant to section 205 of the Federal Power Act.

Filed Date: 10/19/2005.

Accession Number: 20051020-0281.

Comment Date: 5 p.m. Eastern Time on Wednesday, November 9, 2005.

Docket Numbers: ER06-55-000.

Applicants: Mid-Continent Area Power Pool.

Description: Mid-Continent Area Power Pool submits its revisions to Attachment C of the MAPP Schedule F which governs Available Transmission Capability calculations.

Filed Date: 10/20/2005.

Accession Number: 20051021-0011.

Comment Date: 5 p.m. Eastern Time on Thursday, November 10, 2005.

Docket Numbers: ER06-56-000.

Applicants: Michigan Electric Transmission Co, LLC.

Description: Michigan Electric Transmission Co, LLC and Midwest Independent Transmission System Operator, Inc requests authorization to utilize the proposed Attachment O METC formula rate.

Filed Date: 10/20/2005.

Accession Number: 20051021-0067.

Comment Date: 5 p.m. Eastern Time on Thursday, November 10, 2005.

Docket Numbers: ER06-57-000.

Applicants: California Independent System Operator Corporation.

Description: California Independent System Operator Corp submits a Dynamic Scheduling Host Control Area Operating Agreement with Portland General Electric Co as a non-conforming service agreement.

Filed Date: 10/20/2005.

Accession Number: 20051024-0259.

Comment Date: 5 p.m. Eastern Time on Thursday, November 10, 2005.

Docket Numbers: ER06-58-000.

Applicants: California Independent System Operator Corporation.

Description: California Independent System Operator Corp submits the Pseudo Participating Generator Agreement with Calpine Construction Finance Co, LP.

Filed Date: 10/20/2005.

Accession Number: 20051024-0233.

Comment Date: 5 p.m. Eastern Time on Thursday, November 10, 2005.

Docket Numbers: ER06-59-000.

Applicants: California Independent System Operator Corporation.

Description: California Independent System Operator Corp submits Non-Conforming Service Agreement No. 629.

Filed Date: 10/20/2005.

Accession Number: 20051024-0234.

Comment Date: 5 p.m. Eastern Time on Thursday, November 10, 2005.

Docket Numbers: ER06-60-000.

Applicants: California Independent System Operator Corporation.

Description: California Independent System Operator Corp submits a notice of cancellation of ISO Rate Schedule FERC No. 58, the Interim Operations Agreement with Turlock Irrigation District.

Filed Date: 10/19/2005.

Accession Number: 20051024-0216.

Comment Date: 5 p.m. Eastern Time on Wednesday, November 9, 2005.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6065 Filed 11-2-05; 8:45 am]

BILLING CODE 6717-01-P